DEPARTMENT OF HEALTH AND HUMAN SERVICES

Solicitation of Nomination for Appointment to the Chronic Fatigue Syndrome Advisory Committee

AGENCY: Office of Public Health and Science, Office of the Secretary, HHS.

ACTION: Notice.

Authority: 42 U.S.C. 217a, section 222 of the Public Health Service (PHS) Act, as amended. The committee is governed by the provisions of Public Law 92-463, as amended (5 U.S.C. Appendix 2), which sets forth standards for the formation and use of advisory committees.

SUMMARY: The Office of Public Health and Science, HHS, is seeking nominations of qualified candidates to be considered for appointment as a member of the Chronic Fatigue Syndrome Advisory Committee (CFSAC). CFSAC provides science-based advice and recommendations to the Secretary of Health and Human Services, through the Assistant Secretary for Health, on a broad range of issues and topics pertaining to chronic fatigue syndrome (CFS). CFSAC, which was formerly known as the Chronic Fatigue Syndrome Coordinating Committee, was established by the Secretary of Health and Human Services on September 5, 2002. The appointments of five Committee members are scheduled to end on September 30, 2006. Nominations of qualified candidates are being sought to fill these scheduled vacancies.

DATES: Nominations for membership on the Committee must be received no later than 5 p.m. EST on July 12, 2006, at the address listed below.

ADDRESSES: All nominations should be mailed or delivered to Dr. John Eckert, Acting Executive Secretary, Chronic Fatigue Syndrome Advisory Committee; Office of Public Health and Science; Department of Health and Human Services; 200 Independence Avenue, SW., Room 716G; Washington, DC, 20201.

FOR FURTHER INFORMATION CONTACT: Ms. Olga Nelson; Committee Management Officer, OPHS; Department of Health and Human Services; 200 Independence Avenue, SW., Washington, DC 20201; Telephone: (202) 690-5205.

A copy of the Committee charter and list of the current membership can be obtained by contacting Ms. Nelson or by accessing the CFSAC Web site, http://www.hhs.gov/advcomcfs.

SUPPLEMENTARY INFORMATION: 1. The Committee shall advise and make recommendations to the Secretary, through the Assistant Secretary for Health, on a broad range of topics including: (1) The current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

2. Nominations

The Office of Public Health and Science is requesting nominations to fill five positions for the CFSAC. The positions are scheduled to become vacant in September 30, 2006. The Committee is composed of seven biomedical research scientists with demonstrated expertise in biomedical research and four individuals with demonstrated expertise in health care delivery, private health care services or insurer, or voluntary organizations concerned with the problems of individuals with CFS. The vacant positions include both categories. To qualify for consideration of appointment to the Committee, an individual must possess demonstrated experience and expertise in the designated fields or discipline, as well as expert knowledge of the broad issues and topics pertinent to chronic fatigue syndrome.

Individuals selected for appointment to the Committee will serve as voting members. Individuals selected for appointment to the Committee can be invited to serve terms of up to four years. Committee members receive a stipend for attending Committee meetings and conducting other business in the interest of the Committee, including per diem and reimbursement for travel expenses incurred.

Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address, and daytime telephone number, and the home and/or work address, telephone number, and email address of the individual being nominated; and (3) a current copy of the nominee's curriculum vitae. The names of Federal employees should not be nominated for consideration of appointment to this Committee.

The Department makes every effort to ensure that the membership of HHS Federal advisory committees is fairly balanced in terms of points of view represented and the committee's function. Every effort is made to ensure that a broad representation of geographic areas, females, ethnic and minority groups, and the disabled are given consideration for membership on HHS Federal advisory committees. Appointment to this Committee shall be made without discrimination on the basis of age, race, ethnicity, gender, sexual orientation, disability, and cultural, religious, or socioeconomic status. Nominations must state that the nominee is willing to serve as a member of CFSAC and appears to have no conflict of interest that would preclude membership. Potential candidates are required to provide detailed information concerning such matters as financial holdings, consultancies, and research grants or contracts to permit evaluation of possible sources of conflict of interest.

Dated: June 12, 2006.
John Eckert,
Acting Executive Secretary, Chronic Fatigue Syndrome Advisory Committee.

[FR Doc. E6-9859 Filed 6-21-06; 8:45 am]

BILLING CODE 4150-42-P